DEPARTMENT OF HEALTH AND HUMAN SERVICES

National Institutes of Health

Prospective Grant of Exclusive License: Device for Cell Culturing, Monitoring and Containment

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of an exclusive worldwide license to practice the invention embodied in: E-171-2002, “Cell Culturing and Storage Systems, Devices and Methods” U.S. Patent Application 10/334,565 filed December 30, 2002; European Patent Application 03808601.3; rights are also pending in Canada and Australia; to KW Company, LLC, a New York company having its headquarters in Woodstock, New York. The United States of America is the assignee of the patent rights of the above invention. The contemplated exclusive license may be granted in the field of sales of devices for cell culturing, monitoring and containment.

DATES: Only written comments and/or applications for a license received by the NIH Office of Technology Transfer on or before April 24, 2006 will be considered.

ADDRESSES: Requests for a copy of the patent application, inquiries, comments and other materials relating to the contemplated license should be directed to: Michael A. Shmilovich, Esq., Office of Technology Transfer, National Institutes of Health, 6011 Executive Boulevard, Suite 325, Rockville, MD 20852-3804; Telephone: (301) 435-5019; Facsimile: (301) 402-0220; E-mail: shmilovm@mail.nih.gov. A signed confidentiality nondisclosure agreement will be required to receive copies of the patent applications.

SUPPLEMENTARY INFORMATION: The patent applications intended for licensure disclose and/or cover the following:

E-171-2002/0, “Cell Culturing and Storage Systems, Devices and Methods;”

The invention pertains to a closed chamber that provides an environment for long-term culture of cells such as stems cells of central nervous system (CNS) origin, embryonic stem cells, and other cells. The chamber is designed with top and bottom mounted cover slips that permit the observation of cells in culture under an optical microscope. This chamber has the ability to control volume and pressure of liquids and gases by an inlet tube and outlet tubes at two different vertical positions. The chamber also includes a ball joint assembly that allows for the manipulation of a glass microcapillary/microelectrode to come in close contact with the developing cells. This microcapillary/microelectrode assembly can be used to either administer growth factors (e.g., monitoring growth factor levels such as BMP and CNTF) and also for electrical recording from the cells.

The prospective exclusive license will be royalty bearing and will comply with the terms and conditions of 35 U.S.C. 209 and 37 CFR 404.7. The prospective exclusive license may be granted unless, within sixty (60) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: February 10, 2006.
Steven M. Ferguson,
Director, Division of Technology Development and Transfer, Office of Technology Transfer.

[FR Doc. E6-2360 Filed 2-17-06; 8:45 am]

BILLING CODE 4140-01-P